DEPARTMENT OF ENERGY

Federal Energy Regulatory Commission

[Docket No. CP03-52-001]

Colorado Interstate Gas Company; Notice of Compliance Filing

July 1, 2003.

Take notice that on June 26, 2003, Colorado Interstate Gas Company (CIG) tendered for filing as part of its FERC Gas Tariff, First Revised Volume No. 1, the following tariff sheets bearing a proposed effective date of July 28, 2003:

Tenth Revised Sheet No. 228

Third Revised Sheet No. 228A

Third Revised Sheet No. 228B

Third Revised Sheet No. 228C

CIG states that these tariff sheets implement the pro forma tariff provisions accepted by the Commission in CIG's Fort Morgan storage proceeding at Docket No. CP03-52-000.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 16, 2003.

Magalie R. Salas,
Secretary.

[FR Doc. 03-17288 Filed 7-8-03; 8:45 am]

BILLING CODE 6717-01-P